DEPARTMENT OF COMMERCE

National Oceanic and Atmospheric Administration

50 CFR Part 679

[Docket No. 101006495-0498-01]

RIN 0648-BA31

Fisheries of the Exclusive Economic Zone Off Alaska; Steller Sea Lion Protection Measures for the Bering Sea and Aleutian Islands Groundfish Fisheries Off Alaska

AGENCY: National Marine Fisheries Service (NMFS), National Oceanic and Atmospheric Administration (NOAA), Commerce.

ACTION: Interim final rule, extension of comment period.

SUMMARY: NMFS published an interim final rule on December 13, 2010, to implement Steller sea lion protection measures to ensure that the Bering Sea and Aleutian Islands management area groundfish fisheries off Alaska are not likely to jeopardize the continued existence of the western distinct population segment of Steller sea lions or adversely modify its designated critical habitat. A notice correcting errors identified in the preamble to the interim final rule and in the regulatory text was published on December 29, 2010. The public comment period for the interim final rule ends on January 12, 2011. NMFS has decided to extend the public comment period for an additional 45 days, to February 28, 2011, to provide adequate time for various stakeholders and other members of the public to submit comments.

DATES: The public comment period for this action has been extended for an additional 45 days, to February 28, 2011. Comments must be received no later than February 28, 2011.

ADDRESSES: Send comments to Dr. James W. Balsiger, Administrator, Alaska Region, NMFS, Attn: Ellen Sebastian. You may submit comments, identified by RIN 0648-BA31, by any one of the following methods:

• Electronic Submissions: Submit all electronic public comments via the Federal eRulemaking Portal at http://www.regulations.gov.

• Mail: P.O. Box 21668, Juneau, AK 99802.

• Fax: (907) 586-7557.

• Hand delivery to the Federal Building: 709 West 9th Street, Room 420A, Juneau, AK.

All comments received are a part of the public record. No comments will be posted to http://www.regulations.gov for public viewing until after the comment period has closed. Comments will generally be posted without change. All Personal Identifying Information (for example, name, address) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

Written comments regarding the burden-hour estimates or other aspects of the collection-of-information requirements contained in this action rule may be submitted to NMFS, e-mailed to OIRA_Submission@omb.eop.gov, or faxed to 202-395-7285.

FOR FURTHER INFORMATION CONTACT: Melanie Brown, (907) 586-7228.

SUPPLEMENTARY INFORMATION: An interim final rule was published in the Federal Register on December 13, 2010 (75 FR 77535), to implement Steller sea lion protection measures to ensure that the Bering Sea and Aleutian Islands management area groundfish fisheries off Alaska are not likely to jeopardize the continued existence of the western distinct population segment of Steller sea lions or adversely modify its designated critical habitat. A notice correcting one error in the preamble and one typographical error and content within the regulatory tables was published in the Federal Register on December 29, 2010 (75 FR 53272).

The public comment period for the interim final rule ends on January 12, 2011. The comment period occurred over the Christmas and New Year holidays, limiting the number of work days available to the public for developing a response to this action. Due to the public concern regarding this action, NMFS extends the public comment period for an additional 45 days, to end on February 28, 2011. The extension of the comment period ensures that NMFS provides adequate time for various stakeholders and other members of the public to comment on the interim final rule for the revised Steller sea lion protection measures.

Authority: 16 U.S.C. 773 et seq.; 1801 et seq.; 3631 et seq.; Pub. L. 108-447.

Dated: January 7, 2011.
Eric C. Schwaab,
Assistant Administrator for Fisheries, National Marine Fisheries Service.

[FR Doc. 2011-531 Filed 1-11-11; 8:45 am]

BILLING CODE 3510-22-P